NUCLEAR REGULATORY COMMISSION

[NRC-2014-0255]

Review of Security Exemptions/License Amendment Requests for Decommissioning Nuclear Power Plants

AGENCY: Nuclear Regulatory Commission.

ACTION: Draft interim staff guidance; request for comment.

SUMMARY: The U.S. Nuclear Regulatory Commission (NRC) is soliciting public comment on its draft Interim Staff Guidance (ISG) NSIR/DSP-ISG-03, “Review of Security Exemptions/License Amendment Requests for Decommissioning Nuclear Power Plants.” This document would provide guidance for NRC staff to ensure clear and consistent reviews of a licensee's request for licensing actions and amendments, the use of alternative measures, and requests for exemption from security regulations for nuclear power reactors after permanent cessation of plant operations.

DATES: Submit comments by January 8, 2015. Comments received after this date will be considered if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2014-0255. Address questions about NRC dockets to Carol Gallagher; telephone: 301-287-3422; email: Carol.Gallagher@nrc.gov. For technical questions, contact the individuals listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Douglas Garner, Office of Nuclear Security and Incident Response, telephone: 301-287-0929, email: Douglas.Garner@nrc.gov; Margaret Cervera, Office of Nuclear Security and Incident Response, telephone: 301-287-3659, email: Margaret.Cervera@nrc.gov; U.S. Nuclear Regulatory Commission, Washington, DC 20555-0001.

SUPPLEMENTARY INFORMATION:

I. Obtaining Information and Submitting Comments

A. Obtaining Information

Please refer to Docket ID NRC-2014-0255 when contacting the NRC about the availability of information regarding this document. You may obtain publicly-available information related to this action by any of the following methods:

• Federal Rulemaking Web site: Go to http://www.regulations.gov and search for Docket ID NRC-2014-0255.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft ISG is available in ADAMS under Accession No. ML14294A170.

• NRC's PDR: You may examine and purchase copies of public documents at the NRC's PDR, Room O1-F21, One White Flint North, 11555 Rockville Pike, Rockville, Maryland 20852.

B. Submitting Comments

Please include Docket ID NRC-2014-0255 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Currently, the power reactor physical security requirements in Part 73 of Title 10 of the Code of Federal Regulations (10 CFR) and the NRC security orders that apply to licensees of operating nuclear power reactors also apply to decommissioning power reactor licensees, since the 10 CFR part 50 license is retained after permanent cessation of operations and removal of fuel from the reactor vessel. The NRC recognizes that licensees that have permanently ceased operations and have no fuel in the reactor vessel present a significantly reduced risk to public health and safety than operating reactors. Because of the lower comparative risk from a decommissioning power reactor, licensees typically make a case for exemptions on the basis that the application of a specific regulation in the particular circumstance of decommissioning plants is not necessary to achieve the underlying purpose of the regulations and orders.

Licensees have historically used the NRC's existing license amendment and exemption processes to propose tailored security requirements for site-specific conditions at a decommissioning facility. Licensees must follow the process outlined in 10 CFR 73.5 when applying for exemptions from security regulations.

This draft ISG would provide guidance to NRC staff in processing exemption requests and license amendments from the security requirements for nuclear power reactors that are undergoing the process of decommissioning. Use of this draft ISG would result in consistent and timely reviews of requests for exemption from certain security regulations. Annex 1, as noted in the description of Table 1 of this draft ISG, “Physical Security Licensing Actions for Decommissioning Nuclear Power Facilities,” is a standalone Safeguards document. Annex 1 is an internal cross reference document containing site-specific security information regarding previous licensing actions for licensees undergoing decommissioning. This document will not be published or otherwise made available for comment.

The NRC staff is requesting public comment on the draft ISG. After the NRC considers any public comments, it will issue a Federal Register notice making a determination regarding a final ISG.

Dated at Rockville, Maryland, this 19th day of November, 2014.
For the Nuclear Regulatory Commission.
Christiana Lui,
Director, Division of Security Policy, Office of Nuclear Security and Incident Response.

[FR Doc. 2014-28418 Filed 12-1-14; 8:45 am]

BILLING CODE 7590-01-P